SURFACE TRANSPORTATION BOARD

[Docket No. FD 35961]

Chicago Central & Pacific Railroad Company, Grand Trunk Western Railroad Company, Illinois Central Railroad Company, and Wisconsin Central Ltd.—Trackage Rights Exemption—Norfolk Southern Railway Company

Norfolk Southern Railway Company (NSR), pursuant to a trackage rights agreement dated February 11, 2016, has agreed to grant Chicago Central & Pacific Railroad Company, Grand Trunk Western Railroad Company, Illinois Central Railroad Company, and Wisconsin Central Ltd. (collectively, CN Roads) overhead trackage rights in Chicago, Cook County, Ill., as follows: (1) Over NSR's portion of rail line known as the CREATE Western Avenue Corridor, between milepost UW 0.0 (CP 518) and milepost UW 5.3 (Ogden Junction), a distance of approximately 5.3 miles; and (2) over a portion of NSR's CREATE project WA7 track (when constructed), between Brighton Park and 21st Street, including that portion of track that connects to BNSF Railway Company's Chillicothe Subdivision.¹

¹ CN Roads are indirect subsidiaries of Canadian National Railway Company (CNR). CNR's U.S. rail subsidiaries, including CN Roads, are held directly or indirectly by Grand Trunk Corporation, a wholly-owned, indirect subsidiary of CNR.

CN Roads may consummate the transaction on or after March 25, 2016, the effective date of the exemption (30 days after the verified notice of exemption was filed).

According to CN Roads, the proposed trackage rights are intended to facilitate CREATE-related track projects (and transfers), and CN Roads will be granted the subject trackage rights as part of a series of transactions designed to promote railroad traffic fluidity in Chicago.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by March 18, 2016 (at least seven days before the exemption becomes effective).

An original and 10 copies of all pleadings, referring to Docket No. FD 35961, must be filed with the Surface Transportation Board, 395 E Street SW., Washington, DC 20423-0001. In addition, a copy of each pleading must be served on Robert A. Wimbish, Fletcher & Sippel LLC, 29 North Wacker Drive, Suite 920, Chicago, IL 60606.

Board decisions and notices are available on our Web site at www.stb.dot.gov.

Decided: March 8, 2016.
By the Board, Rachel D. Campbell, Director, Office of Proceedings.
Brendetta S. Jones,
Clearance Clerk.

[FR Doc. 2016-05539 Filed 3-10-16; 8:45 am]

BILLING CODE 4915-01-P